DEPARTMENT OF TRANSPORTATION

Federal Motor Carrier Safety Administration

[Docket No. FMCSA-2013-0124; FMCSA-2014-0103; FMCSA-2014-0106; FMCSA-2014-0102; FMCSA-2014-0105; FMCSA-2014-0107; FMCSA-2014-1004]

Qualification of Drivers; Exemption Applications; Hearing

AGENCY: Federal Motor Carrier Safety Administration (FMCSA), DOT.

ACTION: Notice of renewal of exemptions; request for comments.

SUMMARY: FMCSA announces its decision to renew exemptions for 31 individuals from the hearing requirement in the Federal Motor Carrier Safety Regulations (FMCSRs) for interstate commercial motor vehicle (CMV) drivers. The exemptions enable these hard of hearing and deaf individuals to continue to operate CMVs in interstate commerce.

DATES: The renewed exemptions were effective on the dates stated in the discussions below and will expire on the dates stated in the discussions below. Comments must be received on or before April 28, 2017.

FOR FURTHER INFORMATION CONTACT: Ms. Christine A. Hydock, Chief, Medical Programs Division, 202-366-4001, fmcsamedical@dot.gov, FMCSA, Department of Transportation, 1200 New Jersey Avenue SE., Room W64-224, Washington, DC 20590-0001. Office hours are from 8:30 a.m. to 5 p.m., e.t., Monday through Friday, except Federal holidays. If you have questions regarding viewing or submitting material to the docket, contact Docket Services, telephone (202) 366-9826.

ADDRESSES: You may submit comments bearing the Federal Docket Management System (FDMS) Docket No. FMCSA-2013-0124; FMCSA-2014-0103; FMCSA-2014-0106; FMCSA-2014-0102; FMCSA-2014-0105; FMCSA-2014-0107; FMCSA-2014-0104 using any of the following methods:

• Federal eRulemaking Portal: Go to http://www.regulations.gov. Follow the online instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m. e.t., Monday through Friday, except Federal Holidays.

• Fax: 1-202-493-2251.

Instructions: Each submission must include the Agency name and the docket number(s) for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., e.t. Monday through Friday, except Federal holidays. The FDMS is available 24 hours each day, 365 days each year. If you want acknowledgment that we received your comments, please include a self-addressed, stamped envelope or postcard or print the acknowledgement page that appears after submitting comments online.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

I. Background

Under 49 U.S.C. 31136(e) and 31315, FMCSA may grant an exemption for two years if it finds “such exemption would likely achieve a level of safety that is equivalent to or greater than the level that would be achieved absent such exemption.” The statute also allows the Agency to renew exemptions at the end of the two-year period.

The physical qualification standard for drivers regarding hearing found in 49 CFR 391.41(b)(11) states that a person is physically qualified to drive a CMV if that person:

First perceives a forced whispered voice in the better ear at not less than 5 feet with or without the use of a hearing aid or, if tested by use of an audiometric device, does not have an average hearing loss in the better ear greater than 40 decibels at 500 Hz, 1,000 Hz, and 2,000 Hz with or without a hearing aid when the audiometric device is calibrated to American National Standard (formerly ASA Standard) Z24.5—1951.

49 CFR 391.41(b)(11) was adopted in 1970, with a revision in 1971 to allow drivers to be qualified under this standard while wearing a hearing aid, 35 FR 6458, 6463 (April 22, 1970) and 36 FR 12857 (July 3, 1971).

The 31 individuals listed in this notice have requested renewal of their exemptions from the hearing standard in 49 CFR 391.41(b)(11), in accordance with FMCSA procedures. Accordingly, FMCSA has evaluated these applications for renewal on their merits and decided to extend each exemption for a renewable two-year period.

II. Request for Comments

Interested parties or organizations possessing information that would otherwise show that any, or all, of these drivers are not currently achieving the statutory level of safety should immediately notify FMCSA. The Agency will evaluate any adverse evidence submitted and, if safety is being compromised or if continuation of the exemption would not be consistent with the goals and objectives of 49 U.S.C. 31136(e) and 31315, FMCSA will take immediate steps to revoke the exemption of a driver.

III. Basis for Renewing Exemptions

Under 49 U.S.C. 31315(b)(1), an exemption may be granted for no longer than two years from its approval date and may be renewed upon application. In accordance with 49 U.S.C. 31136(e) and 31315, each of the twelve applicants has satisfied the renewal conditions for obtaining an exemption from the hearing requirement (80 FR 57032; 80 FR 60747). In addition, for Commercial Driver's License (CDL) holders, the Commercial Driver's License Information System (CDLIS) and the Motor Carrier Management Information System (MCMIS) are searched for crash and violation data. For non-CDL holders, the Agency reviews the driving records from the State Driver's Licensing Agency (SDLA). These factors provide an adequate basis for predicting each driver's ability to continue to safely operate a CMV in interstate commerce.

The 31 drivers in this notice remain in good standing with the Agency and have not exhibited any medical issues that would compromise their ability to safely operate a CMV during the previous two-year exemption period. FMCSA has concluded that renewing the exemptions for each of these applicants is likely to achieve a level of safety equal to that existing without the exemption. Therefore, FMCSA has decided to renew each exemption for a two-year period. In accordance with 49 U.S.C. 31136(e) and 31315, each driver has received a renewed exemption.

As of March 3, 2017, the following 7 individuals have satisfied the renewal conditions for obtaining an exemption from the hearing requirement in 49 CFR 391.41(b)(11), from driving CMVs in interstate commerce (80 FR 60747):

Kevin Ballard (TX)

Scott Friede (NE)

Jeremiah Hoagland (CO)

Kimothy McLoed (GA)

Victor Morales (TX)

Branden Veronie (LA)

Anthony Witcher (MI)

The drivers were included in FMCSA-2014-0106. The exemptions were effective on March 3, 2017, and will expire on March 3, 2019.

As of March 10, 2017, David Helgreson (WI) and Susan Helgreson (WI) have satisfied the renewal conditions for obtaining an exemption from the hearing requirement in 49 CFR 391.41(b)(11), from driving CMVs in interstate commerce (80 FR 18924).

The drivers were included in FMCSA-2014-0124. The exemptions were effective on March 10, 2017, and will expire on March 10, 2019.

As of March 13, 2017, the following 5 individuals have satisfied the renewal conditions for obtaining an exemption from the hearing requirements in 49 CFR 391.41(b)(11), from driving CMVs in interstate commerce (80 FR 57029):

Thomas Bertling (OR)

John Huey Jr. (AZ)

Scott Putman (PA)

Christopher Warner (NY)

Paul Langois (OH)

The drivers were included in FMCSA-2014-0107. The exemptions were effective on March 13, 2017, and will expire on March 13, 2019.

On March 19, 2017, Jesse Shelander (TX) has satisfied the renewal conditions for obtaining an exemption from the hearing requirement in 49 CFR 391.41(b)(11), from driving in interstate commerce (80 FR 57032). The driver was included in FMCSA-2014-0103. The exemption was effective on March 19, 2017, and will expire on March 19, 2019.

As of March 29, 2017, the following 7 drivers have satisfied the renewal conditions for obtaining an exemption from the hearing requirement in 49 CFR 391.41(b)(11), from driving in interstate commerce (80 FR 18924):

Richard Boggs (OH)

Conley Bowling (KY)

Kareem Douglas (OH)

Danny Fisk (CO)

Kenneth Frilando (NY)

Kenneth Harris (TX)

Victor Robinson (LA)

The drivers were included in FMCSA-2014-0124. The exemptions were effective on March 29, 2017, and will expire on March 29, 2019.

As of March 29, 2017, Robert Parrish (NV) and Nathaniel Godfrey (KY) have satisfied the renewal conditions for obtaining an exemption from the hearing requirement in 49 CFR 391.41(b)(11), from driving in interstate commerce (80 FR 57032). The drivers were included in FMCSA-2014-0103. The exemptions were effective on March 29, 2017 and will expire on March 29, 2019.

As of March 29, 2017 Weston Arthurs (CA) and Floyd McClain (FL) have satisfied the hearing requirements in 49 CFR 391.41(b)(11), from driving in interstate commerce (80 FR 60741). The drivers were included in FMCSA-2014-0106. The exemptions were effective on March 29, 2017, and expire on March 29, 2019.

As of March 29, 2017, Timothy Laporte (NY) has satisfied renewal requirements for obtaining an exemption from the hearing requirement in 49 CFR 391.41(b)(11), from driving in interstate commerce (80 FR 22768). The driver was included in FMCSA-2014-0102. The exemption was effective on March 29, 2017, and will expire March 29, 2019.

As of March 29, 20017, Steven Levine (MN) and Bruce Walker (NY) have satisfied the renewal requirements for obtaining an exemption from the hearing requirement in 49 CFR 391.41(b)(11), from driving in interstate commerce (80 FR 60735). The drivers were included in FMCSA-2014-0105. The exemptions were effective on March 29, 2017, and expire on March 29, 2019.

As of March 29, 2017, Kirk Soneson (OH) has satisfied the renewal requirements for obtaining an exemption from the hearing requirement in 49 CFR 391.41(b)(11), from driving in interstate commerce (80 FR 57029). The driver was included in FMCSA-2014-0107. The exemption was effective on March 29, 2017, and will expire on March 29, 2019.

As of March 29, 2017, Brandon Lango (TX) has satisfied the renewal requirements for obtaining an exemption from the hearing requirement in 49 CFR 391.41(b)(11), from driving in interstate commerce (80 FR 60747). The driver was included in FMCSA-2014-0104. The exemption was effective on March 29, 2017, and will expire on March 29, 2019.

IV. Conditions and Requirements

The exemptions are extended subject to the following conditions: (1) Each driver must report any crashes or accidents as defined in 49 CFR 390.5; and (2) report all citations and convictions for disqualifying offenses under 49 CFR part 383 and 49 CFR 391 to FMCSA. In addition, the driver must also have a copy of the exemption when driving, for presentation to a duly authorized Federal, State, or local enforcement official. The driver is prohibited from operating a motorcoach or bus with passengers in interstate commerce. The exemption does not exempt the individual from meeting the applicable CDL testing requirements. Each exemption will be valid for two years unless rescinded earlier by FMCSA. The exemption will be rescinded if: (1) The person fails to comply with the terms and conditions of the exemption; (2) the exemption has resulted in a lower level of safety than was maintained before it was granted; or (3) continuation of the exemption would not be consistent with the goals and objectives of 49 U.S.C. 31136(e) and 31315.

IV. Conclusion

Based upon its evaluation of the 32 exemption applications, FMCSA renews the exemptions of the aforementioned drivers from the hearing requirement in 49 CFR 391.41(b)(11). In accordance with 49 U.S.C. 31136(e) and 31315, each exemption will be valid for two years unless revoked earlier by FMCSA.

Issued on: March 22, 2017.
Larry W. Minor,
Associate Administrator for Policy.

[FR Doc. 2017-06181 Filed 3-28-17; 8:45 am]

BILLING CODE 4910-EX-P